DEPARTMENT OF HEALTH AND HUMAN SERVICES

Administration for Community Living

Agency Information Collection Activities; Proposed Collection; Comment Request; Evaluation of Participants of an Annual SMP/SHIP National Training Conference Hosted by the Office of Healthcare Information and Counseling [OMB #0985-New]

AGENCY: Administration for Community Living, HHS.

ACTION: Notice

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to Proposed new information collection requirements related to Evaluation of participants of an Annual SMP/SHIP National Training Conference hosted by the Office of Healthcare Information and Counseling.

DATES: Submit written comments on the collection of information by July 24, 2020.

ADDRESSES: Submit electronic comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Marissa Whitehouse, Administration for Community Living, Washington, DC 20201, Marissa.Whitehouse@acl.hhs.gov or 202-795-7425.

SUPPLEMENTARY INFORMATION: In compliance with 44 U.S.C. 3507, ACL has submitted the following proposed collection of information to OMB for review and clearance. The Office of Healthcare Information and Counseling (OHIC) hosts an annual national training conference for the federally funded programs that it administers. The audience for this training conference includes attendees from State Health Insurance Assistance Program (SHIP) and Senior Medicare Patrol (SMP) programs, which are two nationally recognized programs that provide Medicare information and counseling to Medicare beneficiaries and help, fight Medicare fraud through prevention and education. Grantee leadership is required to attend this training annually to ensure they receive critical information and technical assistance needed to help them successfully meet the requirements of their grant awards.

Grantees are encouraged to bring up to three (3) people from each program. Programs operate in each of the 50 states, the District of Columbia, Guam, Puerto Rico, and the US Virgin Islands. The information collected in this survey is necessary to ensure that ACL is meeting the technical assistance needs of the attendees and to capture valuable feedback to be used for future training meetings. By gathering feedback on the quality of the training and content provided, we can ensure attendee satisfaction and gather information for future planning. ACL administers a contract to develop and provide the training conference evaluation tool for ACL's approval. They also disseminate a tool to all participants following each training conference to evaluate attendee satisfaction. This training conference survey is introduced and explained during the program specific meetings and during the general session on the first day of the training conference. The survey is not mandatory, but is reinforced as a way for ACL to provide useful, engaging sessions that assist the attendees in successfully meeting the requirements of their grant awards. This evaluation tool will gather feedback on the quality of the training and content provided and the experience of the attendees to be used for future planning.

Comments in Response to the 60-Day Federal Register Notice

A 60-Day Notice s published in the Federal Register on February 7, 2020 Vol. 85 pages 7309-7310. ACL received one public comment during the 60-day public comment period; the public comment related to the current COVID-19 pandemic requesting the 2020 event be held virtually. Though it is essential for this event to be held in-person and to bring together national partners from across the country each year, this year's COVID-19 pandemic has halted all in-person event capability. ACL intends to hold the 2020 conference virtually.

For review and comment on this proposed information collection request, please visit the ACL website https://www.acl.gov/about-acl/public-input.

Estimated Program Burden

ACL estimates the burden associated with this collection of information as follows:

Respondent/data collection activity | Number of respondents | Responses per respondent | Hours per response | Annual burden hours
Conference Evaluation | 364 | 1 | 15 minutes | 91

Dated: June 17, 2020.
Mary Lazare,
Principal Deputy Administrator.

[FR Doc. 2020-13575 Filed 6-23-20; 8:45 am]

BILLING CODE 4154-01-P